DEPARTMENT OF COMMERCE

National Oceanic and Atmospheric Administration

[RTID 0648-XA023]

South Atlantic Fishery Management Council; Public Meetings

AGENCY: National Marine Fisheries Service (NMFS), National Oceanic and Atmospheric Administration (NOAA), Department of Commerce.

ACTION: Notice of a public meeting.

SUMMARY: The South Atlantic Fishery Management Council (Council) will hold a meeting of its System Management Plan (SMP) Workgroup via webinar.

DATES: The SMP Workgroup will meet via webinar on February 20, 2020, from 1 p.m. until 3 p.m.

ADDRESSES: The meeting will be held via webinar. The meeting is open to the public and will be available via webinar as it occurs. Registration is required. Webinar registration information, a public comment form, meeting agenda, and other meeting materials will be posted to the Council's website at: https://safmc.net/safmc-meetings/other-meetings/ as they become available.

Council address: South Atlantic Fishery Management Council, 4055 Faber Place Drive, Suite 201, N Charleston, SC 29405.

FOR FURTHER INFORMATION CONTACT: Kim Iverson, Public Information Officer, SAFMC; phone: (843) 571-4366 or toll free (866) SAFMC-10; fax: (843) 769-4520; email: kim.iverson@safmc.net.

SUPPLEMENTARY INFORMATION: The SMP Workgroup is an advisory group for the Council that reviews actions items, evaluates managed areas, and reviews management of managed areas recommended by the Council. The Workgroup is responsible for development of a report to the Council with recommendations. Components of the report include background information on managed areas; biological and habitat monitoring; socio-economic factors; enforcement and compliance; research recommendations; and outreach.

The workgroup is holding a meeting via webinar to discuss a review of the Oculina Bank Experimental Closed Area Evaluation Plan created by the Council. The Workgroup will also review the Spawning Special Management Zone web page currently under development.

Special Accommodations

The meeting is physically accessible to people with disabilities. Requests for auxiliary aids should be directed to the council office (see ADDRESSES) 5 days prior to the public meeting.

Note: The times and sequence specified in this agenda are subject to change.

Authority: 16 U.S.C. 1801 et seq.

Dated: January 22, 2020.
Tracey L. Thompson,
Acting Deputy Director, Office of Sustainable Fisheries, National Marine Fisheries Service.

[FR Doc. 2020-01268 Filed 1-24-20; 8:45 am]

BILLING CODE 3510-22-P